DEPARTMENT OF COMMERCE

National Oceanic and Atmospheric Administration

[RTID 0648-XR053]

Endangered and Threatened Species; Take of Anadromous Fish

AGENCY: National Marine Fisheries Service (NMFS), National Oceanic and Atmospheric Administration (NOAA), Commerce.

ACTION: Notice; extension of comment period.

SUMMARY: NMFS is extending the public comment period on the proposed Deschutes Basin Habitat Conservation Plan (DBHCP) developed by the Deschutes Basin Board of the Control and the City of Prineville (applicants) in support of their application for an incidental take permit from NMFS and the U.S. Fish and Wildlife Service (USFWS). The USFWS prepared a draft environmental impact statement (EIS) in compliance with the National Environmental Policy Act (NEPA). NMFS is a cooperating agency under NEPA for this action.

DATES: The original notice issued on October 4, 2019 (84 FR 53114), provided for a comment period to end on November 18, 2019. The comment period is now extended 15 days and will close on December 3, 2019. Comments must be received at the appropriate address (see ADDRESSES) no later than 11:59 p.m. Eastern time on December 3, 2019. Comments received after this date may not be accepted.

ADDRESSES: Copies of the proposed DBHCP are available for public inspection online at https://www.fisheries.noaa.gov/action/proposed-deschutes-basin-habitat-conservatioin-plan. The draft EIS (and the proposed DBHCP) can be viewed online at http://www.regulations.gov, Docket No. FWS-R1-ES-2019-0091.

You may submit comments by the following methods. You do not need to resubmit comments if they have already been submitted.

• Electronic Submission: http://www.regulations.gov. Follow instructions for submitting comments on Docket No. FWS-R1-ES-2019-0091.

• Hard Copy: Submit by U.S. mail or hand delivery to Public Comments Processing, Attn: Docket No. FWS-R1-ES-2019-0091, U.S. Fish and Wildlife Service, 5275 Leesburg Pike, MS: JAO/1N, Falls Church, VA 22041-3803.

Instructions: Comments sent by any other method, to any other address or individual, or received after the end of the comment period, may not be considered by NMFS. All comments received are a part of the public record and will be posted for public viewing on www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Scott Carlon, NMFS (503) 231-2379 or by email at scott.carlon@noaa.gov.

SUPPLEMENTARY INFORMATION:

Statutory Authority

Section 9 of the ESA prohibits the taking of any listed species. The definition of “take” under the ESA (16 U.S.C. 1532(19)) includes to harass, harm, hunt, shoot, wound, kill, trap, capture, collect, or attempt to engage in any such conduct. NMFS may issue permits, under limited circumstances to take listed species incidental to, and not the purpose of, otherwise lawful activity. Section 10(a) of the ESA and implementing regulations specify requirements for the issuance of incidental take permits (ITP) to non-Federal entities for the take of endangered and threatened species. NMFS regulations governing permits for threatened and endangered species are at 50 CFR 222.307. Any proposed take must be incidental to otherwise lawful activities, not appreciably reduce the likelihood of the survival and recovery of the species in the wild, and minimize and mitigate the impacts of such take to the maximum extent practicable. In addition, the applicant must prepare an habitat conservation plan describing the impact that will likely result from such taking, the strategy for minimizing and mitigating the take, the funding available to implement such steps, alternatives to such taking, and the reason such alternatives are not being implemented.

Background

The NMFS and USFWS received an incidental take permit application from the applicants on August 30, 2019. The eight DBBC-member districts are quasi-municipal organizations formed and operated according to Oregon state law to distribute water to irrigators within designated geographic boundaries. Collectively, the districts serve over 7,653 patrons and provide water for approximately 151,000 acres. The City of Prineville operates City-owned infrastructure and provides essential services to over 9,000 residents including municipal water supply, sewage treatment and public safety.

The application included the proposed DBHCP, which describes how impacts to steelhead, spring-run Chinook salmon, sockeye salmon, bull trout and Oregon spotted frog (hereafter covered species) would be minimized and mitigated. The proposed DBHCP also describes the estimated potential impact on covered species' populations, adaptive management, monitoring, and mitigation measures.

The various activities carried out by the applicants modify the quantity and quality of flow in the Deschutes River and its tributaries through the storage, release, diversion and return of irrigation water and the release of treated municipal sewage. The proposed DBHCP would modify covered activities to reduce the negative effects on the covered species aquatic habitat.

Dated: November 5, 2019.
Angela Somma,
Chief, Endangered Species Conservation Division, Office of Protected Resources, National Marine Fisheries Service.

[FR Doc. 2019-24486 Filed 11-8-19; 8:45 am]

BILLING CODE 3510-22-P